DEPARTMENT OF ENERGY

Federal Energy Regulatory Commission

[Docket No. RP01-110-000]

Williston Basin Interstate Pipeline Company; Notice of Compliance Filing

November 22, 2000.

Take notice that on November 20, 2000, Williston Basin Interstate Pipeline Company (Williston Basin), tendered for filing as part of its FERC Gas Tariff, Second Revised Volume No. 1, the following revised tariff sheets, with an effective date of December 21, 2000:

Fourteenth Revised Sheet No. 187

Sheet No. 187A

Sheet No. 188

Williston Basin states that it is filing the proposed revision to its Tariff to facilitate compliance with Order No. 637 and the revised reporting requirements in Section 161.3(1)(2) of the Commission's Regulations.

Effective September 1, 2000, pipelines were required to identify operating personnel and facilities shared by the pipeline and its marketing affiliates on its Internet web site and update the information within three business days of any change. Williston Basin presently identifies any shared operating personnel and facilities on its Internet accessible Electronic Bulletin Board (EBB) and also in its Tariff. Williston Basin is proposing in the filing to remove language from Section 7.1 of the General Terms and Conditions of its Tariff relating to operating personnel and facilities Williston Basin shares with its marketing affiliates, as this information is now available on its EBB.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30348 Filed 11-28-00; 8:45 am]

BILLING CODE 6717-01-M